DEPARTMENT OF DEFENSE

Department of the Army

Army Science Board; Notice of Closed Meeting

In accordance with section 10(a)(2) of the Federal Advisory Committee Act (Pub. L. 92-463), announcement is made of the following Committee Meeting:

Name of Committee: Army Science Board (ASB).

Date(s) of Meeting: 10-11 June 2002.

Time(s) of Meeting: 0800-1700, 10 June 2002. 0800-1700, 11 June 2002.

Place: MITRE, McLean, VA.

Agenda: The Army Science Board's (ASB) Study “Meeting the Future Army Aviation Needs” will meet for briefings and discussions on the study subject. These meetings will be closed to the public in accordance with section 552b(c) of title 5, U.S.C., specifically subparagraph (4) thereof, and Title 5, U.S.C., Appendix 2, subsection 10(d). The proprietary matters to be discussed are so inextricably intertwined so as to preclude opening any portion of these meetings.

FOR FURTHER INFORMATION CONTACT: Mr. Ira J. Kuhn @ 703-243-3383 or email: Ira Kuhn@directedtechnologies.com.

Wayne Joyner,
Executive Assistant, Army Science Board.

[FR Doc. 02-13641 Filed 5-30-02; 8:45 am]

BILLING CODE 3710-08-M